SMALL BUSINESS ADMINISTRATION

13 CFR Ch. I

Semiannual Regulatory Agenda

AGENCY: U.S. Small Business Administration (SBA).

ACTION: Semiannual Regulatory Agenda.

SUMMARY: This Regulatory Agenda is a semiannual summary of all current and projected rulemakings, existing regulations, and completed actions of the Small Business Administration (SBA). For this fall edition of the SBA's Regulatory Agenda, a Regulatory Plan that contains a list of the Agency's most important and significant regulatory actions and a Statement of Regulatory Priorities is also included. This plan appears in both the online Unified Agenda and in part II of the Federal Register editions that include the abbreviated Unified Agenda.

This agenda provides the public with information about SBA's regulatory activity. SBA invites the public to submit comments on any aspect of this Agenda. SBA expects that providing early information about pending regulatory activities would encourage more effective public participation in this process.

FOR FURTHER INFORMATION CONTACT:

General

Please direct general comments or inquiries to Martin “Sparky” Conrey, Assistant General Counsel for Legislation and Appropriations, U.S. Small Business Administration, 409 Third Street SW., Washington, DC 20416, (202) 619-0638, martin.conrey@sba.gov.

Specific

Please direct specific comments and inquiries on individual regulatory activities identified in this agenda to the individual listed in the summary of the regulation as the point of contact for that regulation.

SUPPLEMENTARY INFORMATION: SBA provides this notice under the requirements of the Regulatory Flexibility Act, 5 U.S.C. sections 601 to 612 and Executive Order 12866, “Regulatory Planning and Review,” which require each agency to publish a semiannual agenda of regulations. The Regulatory Agenda is a summary of all current and projected rulemakings during the coming one-year period, as well as actions completed since the publication of the last Regulatory Agenda for the agency.

Beginning with the fall 2007 edition, the Internet became the basic means for disseminating the Unified Agenda. The complete Unified Agenda will be available online at www.reginfo.gov in a format that greatly enhances a user's ability to obtain information about the rules in the agency's Agenda.

The Regulatory Flexibility Act (RFA) also requires federal agencies to publish their regulatory flexibility agendas in the Federal Register. A regulatory flexibility agenda contains only those rules listed in the semi-annual agenda that are likely to have a significant economic impact on a substantial number of small entities, and those rules identified for periodic review in keeping with the requirements of section 610 of the RFA. This regulatory flexibility agenda may be combined with any other agenda. Therefore, SBA's Fall 2012 Regulatory Agenda includes, as a subset, those regulatory actions that are in the SBA's regulatory flexibility agenda. Printing of these entries is limited to fields that contain information required by the RFA requirements. Additional information on these entries is available in the Unified Agenda published on the Internet.

Dated: September 13, 2012.
Karen G. Mills,
Administrator.

Small Business Administration—Proposed Rule Stage
Sequence No. | Title | Regulation Identifier No.
380 | Small Business Development Centers (SBDC) Program Revisions | 3245-AE05
381 | SBA Express Loan Program; Export Express Program | 3245-AF85
382 | Implementation of Small Business Disaster Response and Loan Improvement Act of 2008: Expedited Disaster Assistance Program | 3245-AF88
383 | Implementation of Small Business Disaster Response and Loan Improvement Act of 2008: Private Loan Disaster Program | 3245-AF99
384 | Women's Business Center Program | 3245-AG02
385 | 504 and 7(a) Regulatory Enhancements (Reg Plan Seq No. 98) | 3245-AG04
386 | Small Business Jobs Act: Small Business Size Standards; Alternative Size Standard for 7(a) and 504 Business Loan Programs | 3245-AG16
387 | Small Business Jobs Act: Small Business Mentor-Protégé Programs (Reg Plan Seq No. 99) | 3245-AG24
388 | Small Business HUBZone Program | 3245-AG38
389 | Agent Revocation and Suspension Procedures | 3245-AG40
390 | Small Business Size Standards: Mining, Quarrying, and Oil and Gas Extraction | 3245-AG44
391 | Small Business Size Standards for Wholesale Trade | 3245-AG49
392 | Small Business Size Standards for Manufacturing | 3245-AG50
393 | Small Business Size Standards for Other Industries With Employee-Based Size Standards not Part of Manufacturing or Wholesale Trade | 3245-AG51
References in boldface appear in The Regulatory Plan in part II of this issue of the Federal Register.

Small Business Administration—Final Rule Stage
Sequence No. | Title | Regulation Identifier No.
394 | Lender Oversight Program | 3245-AE14
395 | Small Business Technology Transfer (STTR) Policy Directive (Reg Plan Seq No. 100) | 3245-AF45
396 | Small Business Innovation Research (SBIR) Program Policy Directive (Reg Plan Seq No. 101) | 3245-AF84
397 | Acquisition Process: Task and Delivery Order Contracts, Bundling, Consolidation (Reg Plan Seq No. 102) | 3245-AG20
398 | Small Business Jobs Act: Subcontract Integrity | 3245-AG22
399 | Small Business Jobs Act: Small Business Size and Status Integrity | 3245-AG23
400 | Small Business Size Standards for Utilities | 3245-AG25
401 | Small Business Size Standards: Arts, Entertainment, and Recreation | 3245-AG36
402 | Small Business Size Standards: Construction | 3245-AG37
403 | Small Business Size Standards: Agriculture, Forestry, Fishing, and Hunting | 3245-AG43
404 | Small Business Size Standards: Finance and Insurance; Management of Companies and Enterprises | 3245-AG45
405 | Small Business Size Regulations, Small Business Innovation Research (SBIR) Program and Small Business Technology Transfer (STTR) Program | 3245-AG46
References in boldface appear in The Regulatory Plan in part II of this issue of the Federal Register.

Small Business Administration—Completed Actions
Sequence No. | Title | Regulation Identifier No.
406 | Small Business Size Standards; Information | 3245-AG26
407 | Small Business Size Standards; Administrative and Support, Waste Management and Remediation Services | 3245-AG27
408 | Small Business Size Standards: Real Estate, Rental and Leasing | 3245-AG28
409 | Small Business Size Standards: Educational Services | 3245-AG29
410 | Small Business Size Standards: Health Care and Social Assistance | 3245-AG30
411 | Small Business Investment Companies—Early Stage SBICs | 3245-AG32

SMALL BUSINESS ADMINISTRATION (SBA)

Proposed Rule Stage

380. Small Business Development Centers (SBDC) Program Revisions

Legal Authority: 15 U.S.C. 634(b)(6); 15 U.S.C. 648

Abstract: This rule would update Small Business Development Center (SBDC) program regulations by amending among other things, the: (1) procedures for approving and funding of SBDCs; (2) approval procedures for travel outside the continental U.S. and U.S. territories; (3) procedures and requirements regarding findings and disputes resulting from financial exams, programmatic reviews, accreditation reviews, and other SBA oversight activities; (4) requirements for new and renewal applications for SBDC awards, including the requirements for electronic submission through the approved electronic Government submission facility; and (5) provisions regarding the collection and use of individual SBDC client data.

Timetable:

Action | Date | FR Cite
NPRM | 06/00/13

Regulatory Flexibility Analysis Required: Yes.

Agency Contact: John C. Lyford, Deputy Associate Administrator, Office of Small Development Centers, Small Business Administration, 409 Third Street SW., Washington, DC 20416, Phone: 202 205-7159, Fax: 202 481-2613, Email: chancy.lyford@sba.gov.

RIN: 3245-AE05

381. SBA Express Loan Program; Export Express Program

Legal Authority: 15 U.S.C. 636(a)(31) and (35)

Abstract: SBA plans to issue regulations for the SBA Express loan program codified in section 7(a)(31) of the Small Business Act. The SBA Express loan program reduces the number of Government mandated forms and procedures, streamlines the processing and reduces the cost of smaller, less complex SBA loans. Particular features of the SBA Express loan program include: (1) SBA Express loans carry a maximum SBA guaranty of 50 percent; (2) a response to an SBA Express loan application will be given within 36 hours; (3) lenders and borrowers can negotiate the interest rate, which may not exceed SBA maximums; and (4) qualified lenders may be granted authorization to make eligibility determinations. SBA also plans to issue regulations for the Export Express Program codified at 7(a)(35) of the Small Business Act. The Export Express Program, made permanent by the Small Business Jobs Act, makes guaranteed financing available for export development activities.

Timetable:

Action | Date | FR Cite
NPRM | 06/00/13

Regulatory Flexibility Analysis Required: Yes.

Agency Contact: Grady Hedgespeth, Director, Office of Financial Assistance, Small Business Administration, 409 Third Street SW., Washington, DC 20416, Phone: 202 205-7562, Fax: 202 481-0248, Email: grady.hedgespeth@sba.gov.

RIN: 3245-AF85

382. Implementation of Small Business Disaster Response and Loan Improvement Act of 2008: Expedited Disaster Assistance Program

Legal Authority: 15 U.S.C. 636(j)

Abstract: This proposed rule would establish and implement an expedited disaster assistance business loan program under which the SBA will guarantee short-term loans made by private lenders to eligible small businesses located in a catastrophic disaster area. The maximum loan amount is $150,000, and SBA will guarantee timely payment of principal and interest to the lender. The maximum loan term will be 180 days, and the interest rate will be limited to 300 basis points over the Federal funds rate.

Timetable:

Action | Date | FR Cite
NPRM | 04/00/13

Regulatory Flexibility Analysis Required: Yes.

Agency Contact: Grady Hedgespeth, Director, Office of Financial Assistance, Small Business Administration, 409 Third Street SW., Washington, DC 20416, Phone: 202 205-7562, Fax: 202 481-0248, Email: grady.hedgespeth@sba.gov.

RIN: 3245-AF88

383. Implementation of Small Business Disaster Response and Loan Improvement Act of 2008: Private Loan Disaster Program

Legal Authority: 15 U.S.C. 636

Abstract: This proposed rule would establish and implement a private disaster loan program under which SBA will guarantee loans made by qualified lenders to eligible small businesses and homeowners located in a catastrophic disaster area. Private disaster loans made under this programs will have the same terms and conditions as SBA's direct disaster loans. In addition, SBA will guarantee timely payment of principal and interest to the lender. SBA may guarantee up to 85 percent of any loan under this program and the maximum loan amount is $2 million.

Timetable:

Action | Date | FR Cite
NPRM | 06/00/13

Regulatory Flexibility Analysis Required: Yes.

Agency Contact: Grady Hedgespeth, Director, Office of Financial Assistance, Small Business Administration, 409 Third Street SW., Washington, DC 20416, Phone: 202 205-7562, Fax: 202 481-0248, Email: grady.hedgespeth@sba.gov.

RIN: 3245-AF99

384. Women's Business Center Program

Legal Authority: 15 U.S.C. 631; 15 U.S.C. 656

Abstract: SBA's Office of Women's Business Ownership (OWBO) oversees a network of SBA-funded Women's Business Centers (WBCs) throughout the United States and its territories. WBCs provide management and technical assistance to small business concerns both nascent and established, with a focus on such businesses that are owned and controlled by women, or on women planning to start a business, especially women who are economically or socially disadvantaged. The training and counseling provided by the WBCs encompass a comprehensive array of topics, such as finance, management and marketing in various languages. This rule would propose to codify the requirements and procedures that govern the delivery, funding and evaluation of the management and technical assistance provided under the WBC Program. The rule would address, among other things, the eligibility criteria for selection as a WBC, use of federal funds, standards for effectively carrying out program duties and responsibilities, and the requirements for reporting on financial and programmatic performance.

Timetable:

Action | Date | FR Cite
NPRM | 09/00/13

Regulatory Flexibility Analysis Required: Yes.

Agency Contact: Ana Harvey, Assistant Administrator, Office of Women's Business Ownership, Small Business Administration, 409 3rd Street SW., Washington, DC 20416, Phone: 202 205-6677, Email: ana.harvey@sba.gov.

RIN: 3245-AG02

385. 504 and 7(A) Regulatory Enhancements

Regulatory Plan: This entry is Seq. No. 98 in part II of this issue of the Federal Register.

RIN: 3245-AG04

386. Small Business Jobs Act: Small Business Size Standards; Alternative Size Standard for 7(A) and 504 Business Loan Programs

Legal Authority: Pub. L. 111-240, sec 1116

Abstract: SBA will amend its size eligibility criteria for Business Loans and for development company loans under title V of the Small Business Investment Act (504). For the SBA 7(a) Business Loan Program, the amendments will provide an alternative size standard for loan applicants that do not meet the small business size standards for their industries. For the 504 Program, the amendments will increase the current alternative standard for applicants for 504 loans. The Small Business Jobs Act of 2010 (Jobs Act) established alternative size standards that apply to both of these programs until the SBA's Administrator establishes other alternative size standards. This interim final rule will be effective when published because the alternative size standards that the Jobs Act established were effective September 27, 2010, the date of its enactment. These alternative size standards do not affect other Federal government programs, including Federal procurement.

Timetable:

Action | Date | FR Cite
NPRM | 10/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG16

387. Small Business Jobs Act: Small Business Mentor-Protégé Programs

Regulatory Plan: This entry is Seq. No. 99 in part II of this issue of the Federal Register.

RIN: 3245-AG24

388. Small Business Hubzone Program

Legal Authority: 15 U.S.C. 657a

Abstract: SBA has been reviewing its processes and procedures for implementing the HUBZone program and has determined that several of the regulations governing the program should be amended in order to resolve certain issues that have arisen. As a result, the proposed rule would constitute a comprehensive revision of part 126 of SBA's regulations to clarify current HUBZone Program regulations, and implement various new procedures. These planned amendments will serve to streamline the HUBZone program and ease program eligibility requirements, particularly those that the small business concerns perceive to be burdensome. In developing this proposed rule, SBA will focus on the principles of Executive Order 13563 to determine whether portions of regulations should be modified, streamlined, expanded or repealed to make the HUBZone program more effective and/or less burdensome on small business concerns. At the same time, SBA will maintain a framework that helps identify and reduce waste, fraud and abuse in the program.

Timetable:

Action | Date | FR Cite
NPRM | 10/00/13

Regulatory Flexibility Analysis Required: Yes.

Agency Contact: Mariana Pardo, Deputy Director, Office of Hubzone, Small Business Administration, 409 3rd Street SW., Washington, DC 20416, Phone: 202 205-2985, Email: mariana.pardo@sba.gov.

RIN: 3245-AG38

389. Agent Revocation and Suspension Procedures

Legal Authority: Not Yet Determined

Abstract: These changes to 13 CFR sections 103, 134, and 2 CFR 2700 lay out a procedural process for SBA's revocation of the privilege of agents to conduct business with the Agency. Included in this process are procedure for proposed revocation, the opportunity to object to the proposed revocation, the revocation decision, as well as requests for reconsideration. These procedures also provide for suspension of the privilege to conduct business with the Agency pending a revocation action. In addition, these changes remove Office of Hearings and Appeals review of suspension, revocation, and debarment actions by SBA.

Timetable:

Action | Date | FR Cite
NPRM | 02/00/13

Regulatory Flexibility Analysis Required: Yes.

Agency Contact: Christopher J McClintock, Trial Attorney, Small Business Administration, 409 3rd Street SW., Washington, DC 20416, Phone: 202 205-7715, Email: christoper.mcclintock@sba.gov.

RIN: 3245-AG40

390. Small Business Size Standards: Mining, Quarrying, and Oil and Gas Extraction

Legal Authority: 15 U.S.C. 632(a)

Abstract: SBA has received numerous comments from businesses, industry associations and other Federal agencies that SBA's small business size standards have not kept pace with changes in industry structure and Federal government contracting marketplace. SBA also recognizes that such changes require a re-evaluation of existing small business size standards. As a result, SBA is conducting a comprehensive review of all small business size standards to determine whether the existing size standards should be retained or revised. In addition, the Small Business Jobs Act of 2010 directs SBA to conduct a detailed review of all size standards and to make appropriate adjustments to reflect market conditions. Accordingly, in this proposed rule, SBA will evaluate each industry within the North American Industry Classification System (NAICS) Sector 21, Mining, Quarrying, and Oil and Gas Extraction, and revise, as necessary, size standards for the sector. This is one of a series of proposed rules that will examine industries grouped by a NAICS Sector.

Timetable:

Action | Date | FR Cite
NPRM | 12/06/12 | 77 FR 72766
NPRM Comment Period End | 02/04/13
Final Action | 09/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG44

391. • Small Business Size Standards for Wholesale Trade

Legal Authority: 15 U.S.C. 632(a)

Abstract: SBA is conducting a comprehensive review of all small business size standards to determine whether the existing size standards should be retained or revised. As part of this effort, SBA has evaluated each industry in North American Industry Classification System (NAICS) Sector 42, Wholesale Trade, and revised these employee-based size standards for certain industries in the sector. This is one of the rules that will examine industries grouped by an NAICS Sector. SBA has applied its “Size Standards Methodology,” which is available on its Web site at http://www.sba.gov/size, to this purposed rule.

Timetable:

Action | Date | FR Cite
NPRM | 03/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG49

392. • Small Business Size Standards for Manufacturing

Legal Authority: 15 U.S.C. 632(a)

Abstract: SBA is conducting a comprehensive review of all small business size standards to determine whether the existing size standards should be retained or revised. As part of this effort, SBA has evaluated each industry in North American Industry Classification System (NAICS) Sector 31-33, Manufacturing, and revised these employee-based size standards for certain industries in the sector. This is one of the rules that will examine industries grouped by an NAICS Sector. SBA has applied its “Size Standards Methodology,” which is available on its Web site at http://www.sba.gov/size, to this proposed rule.

Timetable:

Action | Date | FR Cite
NPRM | 03/00/13 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG50

393. • Small Business Size Standards for Other Industries With Employee-Based Size Standards not Part of Manufacturing or Wholesale Trade

Legal Authority: 15 U.S.C. 632(a)

Abstract: SBA is conducting a comprehensive review of all small business size standards to determine whether the existing size standards should be retained or revised. As part of this effort, SBA has evaluated each industry that has an employee-based standard but is not part of North American Industry Classification System (NAICS) Sector 31-33, Manufacturing, or Sector 42, Wholesale Trade, and revised size standards for some of those industries. This is one of the rules that will examine industries grouped by an NAICS Sector. SBA has applied its “Size Standards Methodology,” which is available on its Web site at http://www.sba.gov/size, to this proposed rule.

Timetable:

Action | Date | FR Cite
NPRM | 03/00/13 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG51

SMALL BUSINESS ADMINISTRATION (SBA)

Final Rule Stage

394. Lender Oversight Program

Legal Authority: 15 U.S.C. 634(5)(b)(6),(b)(7),(b)(14),(h) and note; 687(f), 697(e)(c)(8), and 650

Abstract: This rule implements the Small Business Administration's (SBA) statutory authority under the Small Business Reauthorization and Manufacturing Assistance Act of 2004 (Reauthorization Act) to regulate Small Business Lending Companies (SBLCs) and non-federally regulated lenders (NFRLs). It also conforms SBA rules for the section 7(a) Business Loan Program and the Certified Development Company (CDC) Program.

In particular, this rule: (1) Defines SBLCs and NFRLs; (2) clarifies SBA's authority to regulate SBLCs and NFRLs; (3) authorizes SBA to set certain minimum capital standards for SBLCs, to issue cease and desist orders, and revoke or suspend lending authority of SBLCs and NFRLs; (4) establishes the Bureau of Premier Certified Lender Program Oversight in the Office of Credit Risk Management; (5) transfers existing SBA enforcement authority over CDCs from the Office of Financial Assistance to the appropriate official in the Office of Capital Access; and (6) defines SBA's oversight and enforcement authorities relative to all SBA lenders participating in the 7(a) and CDC programs and intermediaries in the Microloan program.

Timetable:

Action | Date | FR Cite
NPRM | 10/31/07 | 72 FR 61752
NPRM Comment Period Extended | 12/20/07 | 72 FR 72264
NPRM Comment Period End | 02/29/08 |
Interim Final Rule | 12/11/08 | 73 FR 75498
Interim Final Rule Comment Period End | 03/11/09 |
Interim Final Rule Effective | 01/12/09 |
Final Rule | 06/00/13 |

Regulatory Flexibility Analysis Required: Yes.

Agency Contact: Brent Ciurlino, Director, Office of Credit Risk Management, Small Business Administration, 409 3rd Street SW., Washington, DC 20416, Phone: 202 205-6538, Email: brent.ciurlino@sba.gov.

RIN: 3245-AE14

395. Small Business Technology Transfer (STTR) Policy Directive

Regulatory Plan: This entry is Seq. No. 100 in part II of this issue of the Federal Register.

RIN: 3245-AF45

396. Small Business Innovation Research (SBIR) Program Policy Directive

Regulatory Plan: This entry is Seq. No. 101 in part II of this issue of the Federal Register.

RIN: 3245-AF84

397. Acquisition Process: Task and Delivery Order Contracts, Bundling, Consolidation

Regulatory Plan: This entry is Seq. No. 102 in part II of this issue of the Federal Register.

RIN: 3245-AG20

398. Small Business Jobs Act: Subcontract Integrity

Legal Authority: Pub. L. 111-240, sec 1321 and 1322, 1334

Abstract: These regulations address subcontracting compliance and the interrelationship between contracting offices, small business offices, and program offices relating to oversight and review activities. The regulation also addresses the statutory requirement that a large business prime contractor must represent that it will make good faith efforts to award subcontracts to small businesses at the same percentage as indicated in the subcontracting plan submitted as part of its proposal for a contract and that if the percentage is not met, the large business prime contractor must provide a written justification and explanation to the contracting officer. Finally, the regulation also addresses the statutory requirement that a prime contractor must notify the contracting officer in writing if it has paid a reduced price to a subcontractor for goods and services or if the payment to the subcontractor is more than 90 days past due.

Timetable:

Action | Date | FR Cite
NPRM | 10/05/11 | 76 FR 61626
NPRM Comment Period End | 12/05/11
NPRM Comment Period Reopened | 12/01/11 | 76 FR 74749
Second NPRM Comment Period End | 01/06/12
Final Action | 03/00/13

Regulatory Flexibility Analysis Required: Yes.

Agency Contact: Dean R. Koppel, Assistant Director, Office of Policy and Research, Small Business Administration, 409 Third Street SW., Washington, DC 20416, Phone: 202 205-7322, Fax: 202 481-1540, Email: dean.koppel@sba.gov.

RIN: 3245-AG22

399. Small Business Jobs Act: Small Business Size and Status Integrity

Legal Authority: Pub. L. 111-240, sec 1341 and 1343

Abstract: These regulations address the intentional misrepresentations of small business status as a “presumption of loss against the Government.” In addition, the rule addresses the statutory requirement that no business may continue to certify itself as small on the System for Award Management (SAM) without first providing an annual certification.

Timetable:

Action | Date | FR Cite
NPRM | 10/07/11 | 76 FR 62313
NPRM Comment Period End | 11/07/11
NPRM Comment Period Extended | 11/08/11 | 76 FR 69154
NPRM Extended Comment Period End | 12/08/11
Final Action | 03/00/13

Regulatory Flexibility Analysis Required: Yes.

Agency Contact: Dean R. Koppel, Assistant Director, Office of Policy and Research, Small Business Administration, 409 Third Street SW., Washington, DC 20416, Phone: 202 205-7322, Fax: 202 481-1540, Email: dean.koppel@sba.gov.

RIN: 3245-AG23

400. Small Business Size Standards for Utilities

Legal Authority: 15 U.S.C. 632(a)

Abstract: The U.S. Small Business Administration (SBA) proposes to revise the small business size standards for nine industries in North American Industry Classification System (NAICS) Sector 22, Utilities. Six of those industries deal with electric power generation, distribution and transmission (NAICS 221111, NAICS 221112, NAICS 221113, NAICS 221119, NAICS 221121, and NAICS 221122) and have a common size standard based on electric output. For those six industries, SBA proposes to replace the current size standard of 4 million megawatt hours in electric output with an employee based size standard of 500 employees. SBA also proposes to increase the small business size standards for three industries in NAICS Sector 22 that have receipt based size standards, namely—NAICS 221310, Water Supply and Irrigation Systems, from $7 million to $25.5 million; NAICS 221320, Sewage Treatment Facilities, from $7 million to $19 million; and NAICS 221330, Steam and Air-conditioning Supply, from $12.5 million to $14 million. As part of its ongoing initiative to review all size standards, SBA evaluated all industries in NAICS Sector 22 that have either electric output based or receipts based size standards to determine whether the existing size standards should be retained or revised. This rule is one of the rules that will examine industries grouped by NAICS sector. SBA has applied its “Size Standards Methodology,” which is available on its Web site at http://www.sba.gov/size, to this proposed rule.

Timetable:

Action | Date | FR Cite
NPRM | 07/19/12 | 77 FR 42441
NPRM Comment Period End | 09/17/12
Final Rule | 03/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG25

401. Small Business Size Standards: Arts, Entertainment, and Recreation

Legal Authority: 15 U.S.C. 632(a)

Abstract: The U.S. Small Business Administration (SBA) will increase the small business size standards for 17 industries in North American Industry Classification System (NAICS) Sector 71, Arts, Entertainment, and Recreation. As part of its ongoing comprehensive review of all size standards, SBA has evaluated all size standards in NAICS Sector 71 to determine whether the existing size standards should be retained or revised. This is one of the rules that will examine industries grouped by an NAICS Sector. SBA has applied its “Size Standards Methodology,” which is available on its Web site at http://www.sba.gov/size, to this proposed rule.

Timetable:

Action | Date | FR Cite
NPRM | 07/18/12 | 77 FR 42211
NPRM Comment Period End | 09/17/12
Final Action | 03/00/13

Regulatory Flexibility Analysis Required: Yes.

Agency Contact: Khem Raj Sharma, Chief, Office of Size Standards, Small Business Administration, 409 Third Street SW., Washington, DC 20416, Phone: 202 205-6390, Fax: 202 205-6390.

RIN: 3245-AG36

402. Small Business Size Standards: Construction

Legal Authority: 15 U.S.C. 632(a)

Abstract: The U.S. Small Business Administration (SBA) will increase small business size standards for one industry and one sub-industry in North American Industry Classification System (NAICS) Sector 23, Construction. SBA will also increase the size standard for NAICS 237210, Land Subdivision, from $7 million to $25 million and the size standard for Dredging and Surface Cleanup Activities, a sub-industry category (or an “exception”) under NAICS 237990, Other Heavy and Civil Engineering Construction, from $20 million to $30 million in average annual receipts. As part of its ongoing comprehensive size standards review, SBA has evaluated all size standards in NAICS Sector 23 to determine whether they should be retained or revised. This is one of the rules that examines size standards of industries grouped by NAICS Sector. SBA has applied its “Size Standards Methodology,” which is available on its Web site at http://www.sba.gov/size, to this rule.

Timetable:

Action | Date | FR Cite
NPRM | 07/18/12 | 77 FR 42197
NPRM Comment Period End | 09/17/12
Final Rule | 03/00/13

Regulatory Flexibility Analysis Required: Yes.

Agency Contact: Khem Raj Sharma, Chief, Office of Size Standards, Small Business Administration, 409 Third Street SW., Washington, DC 20416, Phone: 202 205-6390, Fax: 202 205-6390.

RIN: 3245-AG37

403. Small Business Size Standards: Agriculture, Forestry, Fishing, and Hunting

Legal Authority: 15 U.S.C. 632(a)

Abstract: This rule increases the small business size standards for 11 industries in North American Industry Classification System (NAICS) Sector 11, Agriculture, Forestry, Fishing and Hunting. As part of its ongoing comprehensive review of all small business size standards, SBA evaluated receipts based size standards for 16 industries and two sub-industries in NAICS Sector 11 to determine whether they should be retained or revised. SBA did not review size standards for 46 industries in NAICS Sector 11 that are currently set by statute at $750,000 in average annual receipts. SBA also did not review the 500-employee based size standard for NAICS 113310, Logging, but will review it in the near future with other employee based size standards. In developing the revised size standards, SBA has applied its “Size Standards Methodology,” which is available on the Agency's Web site at http://www.sba.gov/size.

Timetable:

Action | Date | FR Cite
NPRM | 09/11/12 | 77 FR 55755
NPRM Comment Period End | 11/13/12
Final Action | 05/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG43

404. Small Business Size Standards: Finance and Insurance; Management of Companies and Enterprises

Legal Authority: 15 U.S.C. 632(a)

Abstract: The U.S. Small Business Administration (SBA) is increasing the small business size standards for 37 industries in North American Industry Classification System (NAICS) Sector 52, Finance and Insurance, and for two industries in NAICS Sector 55, Management of Companies and Enterprises. In addition, SBA proposes to change the measure of size from average assets to average receipts for NAICS 522293, International Trade Financing. As part of its ongoing comprehensive size standards review, SBA evaluated all receipts based and assets based size standards in NAICS Sectors 52 and 55 to determine whether they should be retained or revised. In developing the revised standards, SBA relied on the methodology set forth in its “Size Standards Methodology,” which is available at www.sba.gov/size.

Timetable:

Action | Date | FR Cite
NPRM | 09/11/12 | 77 FR 55737
NPRM Comment Period End | 11/13/12
Final Action | 04/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG45

405. Small Business Size Regulations, Small Business Innovation Research (SBIR) Program and Small Business Technology Transfer (STTR) Program

Legal Authority: 15 U.S.C. 632(a); Pub. L. 111-81, sec 5107

Abstract: SBA is amending its regulations as they relate to size and eligibility for the SBIR and STTR programs. The revised amendments implement provisions of the SBIR/STTR Reauthorization Act of 2011. The amendments address ownership, control and affilation for participants in these programs, including participants that are majority owned by multiple venture capital operating companies, private equity firms or hedge funds. The regulations also address whether the participant is owned by domestic or foreign business concerns.

Timetable:

Action | Date | FR Cite
NPRM | 05/15/12 | 77 FR 28520
NPRM Comment Period End | 07/16/12
Final Action | 12/00/12

Regulatory Flexibility Analysis Required: Yes.

Agency Contact: Edsel M. Brown Jr., Assistant Director, Office of Innovation, Small Business Administration, 409 Third Street SW., Washington, DC 20416, Phone: 202 205-6450, Email: edsel.brown@sba.gov.

RIN: 3245-AG46

SMALL BUSINESS ADMINISTRATION (SBA)

Completed Actions

406. Small Business Size Standards; Information

Legal Authority: 15 U.S.C. 632(a)

Abstract: The U.S. Small Business Administration (SBA) proposes to increase small business size standards for 15 industries in North American Industry Classification System (NAICS) Sector 51, Information. As part of its ongoing comprehensive review of all size standards, SBA evaluated all receipts-based size standards in NAICS Sector 51 to determine whether they should be retained or revised. This proposed rule is one of a series of proposals that examines size standards of industries grouped by NAICS Sector. SBA has applied its “Size Standards Methodology,” which is available on its Web site at http://www.sba.gov/size, to this proposed rule.

Completed:

Reason | Date | FR Cite
Final Rule | 12/06/12 | 77 FR 72702
Final Rule Effective | 01/07/13

Regulatory Flexibility Analysis Required: Yes.

Agency Contact: Khem Raj Sharma, Phone: 202 205-7189, Fax: 202 205-6390, Email: khem.sharma@sba.gov.

RIN: 3245-AG26

407. Small Business Size Standards; Administrative and Support, Waste Management and Remediation Services

Legal Authority: 15 U.S.C. 632(a)

Abstract: The U.S. Small Business Administration (SBA) is increasing small business size standards for 37 industries in North American Industry Classification System (NAICS) Sector 56, Administrative and Support, Waste Management and Remediation Services. As part of its ongoing comprehensive review of all size standards, SBA evaluated all receipts-based standards in NAICS Sector 56 to determine whether they should be retained or revised. This rule is one of a series that examined size standards of industries grouped by NAICS Sector. SBA has applied its “Size Standards Methodology,” which is available on its Web site at http://www.sba.gov/size, to this rule.

Completed:

Reason | Date | FR Cite
Final Rule | 12/06/12 | 77 FR 72691
Final Rule Effective | 01/07/13

Regulatory Flexibility Analysis Required: Yes.

Agency Contact: Khem Raj Sharma, Phone: 202 205-7189, Fax: 202 205-6390, Email: khem.sharma@sba.gov.

RIN: 3245-AG27

408. Small Business Size Standards: Real Estate, Rental and Leasing

Legal Authority: 15 U.S.C. 632(a)

Abstract: The U.S. Small Business Administration (SBA) is increasing the small business size standards for 20 industries and one sub-industry in North American Industry Classification System (NAICS) Sector 53, Real Estate and Rental and Leasing. As part of its ongoing comprehensive review of all size standards, SBA evaluated all size standards in NAICS Sector 53 to determine whether they should be retained or revised. This rule is one of a series of proposals that examined size standards of industries grouped by NAICS Sector. SBA has applied its “Size Standards Methodology,” which is available on its Web site at http://www.sba.gov/size, to this rule.

Completed:

Reason | Date | FR Cite
Final Rule | 09/24/12 | 77 FR 58747
Final Rule Effective | 10/24/12

Regulatory Flexibility Analysis Required: Yes.

Agency Contact: Khem Raj Sharma, Phone: 202 205-7189, Fax: 202 205-6390, Email: khem.sharma@sba.gov.

RIN: 3245-AG28

409. Small Business Size Standards: Educational Services

Legal Authority: 15 U.S.C. 632(a)

Abstract: The U.S. Small Business Administration (SBA) will increase small business size standards for nine industries in North American Industry Classification System (NAICS) Sector 61, Educational Services. As part of its ongoing comprehensive size standards review, SBA evaluated all size standards in NAICS Sector 61 to determine whether they should be retained or revised. This rule is one of a series of rules that examines size standards of industries grouped by NAICS Sector. SBA applied its “Size Standards Methodology,” which is available on its Web site at http://www.sba.gov/size, to this final rule.

Completed:

Reason | Date | FR Cite
Final Rule | 09/24/12 | 77 FR 58739
Final Rule Effective | 10/24/12

Regulatory Flexibility Analysis Required: Yes.

Agency Contact: Khem Raj Sharma, Phone: 202 205-7189, Fax: 202 205-6390, Email: khem.sharma@sba.gov.

RIN: 3245-AG29

410. Small Business Size Standards: Health Care and Social Assistance

Legal Authority: 15 U.S.C. 632(a)

Abstract: The U.S. Small Business Administration (SBA) will increase small business size standards for 28 industries in North American Industry Classification System (NAICS) Sector 62, Health Care and Social Assistance. As part of its ongoing comprehensive review of all size standards, SBA evaluated all size standards in NAICS Sector 62 to determine whether they should be retained or revised. SBA has applied its “Size Standards Methodology,” which is available on its Web site at http://www.sba.gov/size, to this final rule.

Completed:

Reason | Date | FR Cite
Final Rule | 09/24/12 | 77 FR 58755
Final Rule Effective | 10/24/12

Regulatory Flexibility Analysis Required: Yes.

Agency Contact: Khem Raj Sharma, Phone: 202 205-7189, Fax: 202 205-6390, Email: khem.sharma@sba.gov.

RIN: 3245-AG30

411. Small Business Investment Companies—Early Stage SBICS

Legal Authority: 15 U.S.C. 636(a)(32)

Abstract: To address a critical market need for early stage equity financing, SBA will license a limited number of Small Business Investment Companies (SBICs) each year that are focused on providing equity capital to seed and early stage small businesses. These SBICs would be designated as “Early Stage SBICs.” SBA leverage is available to SBICs through a debenture instrument, the structure of which was not designed to address the needs or circumstances of early stage investors, and thus presents certain repayment risks for such investors. However, with certain regulatory changes, the risk associated with providing debenture leverage to Early Stage SBICs may be significantly reduced. This rule will establish a number of regulatory provisions applicable to Early Stage SBICs for the purpose of managing overall program risk, including lower limits on maximum leverage eligibility and special distribution rules.

Completed:

Reason | Date | FR Cite
Final Rule | 04/27/12 | 77 FR 25042
Final Rule Effective | 04/27/12

Regulatory Flexibility Analysis Required: Yes.

Agency Contact: Carol Fendler, Phone: 202 205-7559, Email: carol.fendler@sba.gov.

RIN: 3245-AG32

[FR Doc. 2012-31507 Filed 1-7-13; 8:45 am]

BILLING CODE 8025-01-P